DEPARTMENT OF JUSTICE

Antitrust Division

Notice Pursuant to the National Cooperative Research and Production Act of 1993—Medical Technology Enterprise Consortium

Notice is hereby given that, on January 18, 2018, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, Bramante Bioscience, Elmira Heights, NY; California Institute of Biomedical Research (Calibr), La Jolla, CA; CIYIS, LLC, Atlanta, GA; Combat Medical Systems, Harrisburg, NC; Cortical Metrics, LLC, Carrboro, NC; Duke University, Durham, NC; Friedman Research Corporation, Austin, TX; General Dynamics Information Technology, Inc., Fairfax, VA; Indiana Biosciences Research Institute, Indianapolis, IN; Iowa State University, Ames, IA; Ischemix, Inc., North Grafton, MA; Israel Innovation Authority, Airport City, ISRAEL; Michigan State University, East Lansing, MI; NeuroRx, Inc., Wilmington, DE; Prytime Medical Devices, Inc., Boerne, TX; Rutgers, The State University of New Jersey, New Brunswick, NJ; Sheltagen Medical Ltd, Atlit, ISRAEL; Studio Kinection, Inc. dba “Kinection”, Napa, CA; TearSolutions, Inc., Charlottesville, VA; The Johns Hopkins University Applied Physics Laboratory, LLC, Laurel, MD; The Regents of the University of Michigan, Ann Arbor, MI; The University of Alabama at Birmingham, Birmingham, AL; The University of Texas at San Antonio, San Antonio, TX; The Washington University, St. Louis, MO; TheraNova, LLC, San Francisco, CA; Thought Leadership and Innovation Foundation (TLI Foundation), McLean, VA; Tympanogen, Inc., Williamsburg, VA; United Solutions, LLC, Rockville, MD; Virginia Polytechnic Institute and State University, Blacksburg, VA; William Marsh Rice University, Houston, TX; and Williams-Jones Consulting, Greenville, SC; have been added as parties to this venture.

Also, CUBRC, Inc., Buffalo, NY; GeoVax, Inc., Smyrna, GA; KIYATEC, Inc., Greenville, SC; Manzanita Pharmaceuticals, Inc., Woodside, CA; Spherium Biomed SL, Barcelona, SPAIN, and Weinberg Medical Physics LLC, North Bethesda, MD; have withdrawn as parties to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on October 6, 2017. A notice was published in the Federal Register pursuant to Section 6(b) of the Act on November 6, 2017 (82 FR 51433).

Patricia A. Brink,
Director of Civil Enforcement, Antitrust Division.

[FR Doc. 2018-04841 Filed 3-9-18; 8:45 am]

BILLING CODE 4410-11-P